DEPARTMENT OF AGRICULTURE

Food and Nutrition Service

Agency Information Collection Activities: Supplemental Nutrition Assistance Program Requirement for National Directory of New Hires Employment Verification

AGENCY: Food and Nutrition Service (FNS), USDA.

ACTION: Notice.

SUMMARY: In accordance with the Paperwork Reduction Act of 1995, this notice invites the general public and other public agencies to comment on this proposed information collection. This collection is a revision of a currently approved collection. In 2016, an Interim Final Rule titled “Supplemental Nutrition Assistance Program: Requirement for National Directory of New Hires Employment Verification and Annual Program Activity Reporting,” was published in the Federal Register. This rule codified section 4013 of the Agricultural Act of 2014, requiring State agencies to access employment data through the National Directory of New Hires (NDNH) at the time of certification, including recertification, to determine eligibility status and correct benefit amount for SNAP applicants. The rule also amended regulations to increase the frequency of the requirement for State agency submission of the Program Activity Statement from an annual requirement based on the State fiscal year to a quarterly requirement. The burden hours for the increase in submission frequency for the Program Activity Statement, form FNS-366B, have been merged into the Food Programs Reporting System (FPRS) information collection, OMB# 0584-0594 (expiration 9/30/2019). Therefore, this notice seeks to renew the burden hours associated with the National Directory of New Hires portion of this information collection only and removes burden hours and references for the Program Activity Statement, form FNS-366B.

DATES: Written comments must be received on or before May 28, 2019.

ADDRESSES: Comments may be sent to: Jane Duffield, Food and Nutrition Service, U.S. Department of Agriculture, 3101 Park Center Drive, Room 818 Alexandria, VA 22302. Comments may also be submitted via email to SNAPSAB@FNS.USDA.GOV. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Jane Duffield at 703-605-4385.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP Requirement for National Directory of New Hires Employment Verification.

Form Number: N/A.

OMB Number: 0584-0608.

Expiration Date: May 31, 2019.

Type of Request: Revision of a currently approved collection.

Abstract: Supplemental Nutrition Assistance Program (SNAP) regulations at 7 CFR 272.16 require that each State agency must establish a system to compare identifiable information about each adult household member against data from the U.S. Department of Health and Human Services' (HHS) National Directory of New Hires (NDNH). This comparison will be used to determine the eligibility status of the household and determine the correct benefit amount the household should receive.

Applicant and Recipient Screening: The State agency must compare identifiable information about each adult household member against information from the NDNH. States must make the comparison of matched data at the time of application and recertification and must independently verify any positive match results.

Verification of Match: The State agency must independently verify the information prior to taking any adverse action against an individual. Should the State agency receive employment information via the NDNH that was previously unreported by the household, the State agency may issue a Request for Contact to the household to verify the information or contact the employer directly, depending upon applicable reporting requirements as defined at 7 CFR 273.12.

Notice: The Notice of Adverse Action or Notice of Denial is issued by State agencies to participating households whose benefits will be reduced or terminated as the result of a change in household circumstances. Should the State agency independently verify unreported or underreported income discovered through NDNH, and that income results in a reduction of benefits or change in eligibility, the State agency must take action by issuing the household a Notice of Adverse Action or Notice of Denial and adjusting benefits accordingly.

Burden Estimates: The previous burden for this collection was 252,432 reporting hours (209,899 reporting burden hours for State agencies + 41,583 reporting burden hours for households). The requested burden is 249,253, which represents a decrease of 3,180 hours for the removal of the Program Activity Statement (FNS-366B) (which is accounted for under OMB#0584-0594; expiration date: 9/30/2019) burden hours from this collection. There are no recordkeeping requirements associated with this collection.

Affected Public: State and local agencies, households.

Estimated Number of Respondents: 891,125.

Estimated Number of Responses per Respondent: 13.78.

Estimated Total Annual Responses: 12,279,702.50.

Estimated Time per Response: 0.0205569019.

Estimated Total Annual Burden on Respondents: 249,252.64 hours. See the table below for estimated total annual burden for each type of respondent.

State Agencies
CFR | Action | Number of respondents | Frequency per respondent | Total annual responses | Burden hours per response | Total burden hours | Previous submission total hours | Difference due to program changes | Difference due to adjustments
State Agencies
272.2 | Program Activity Statement (FNS-366B) | 0 | 0 | 0 | 0 | 0 | 0 | 0 | 3,180
272.16 | NDNH—Applicant/Recipient Screening | 53 | 1 | 9,158,240 | 0.017 | 155,690.08 | 155,690.08 | 0 | 0.00
272.16 | NDNH—Verification of Match | 53 | 1 | 1,237,600 | 0.03 | 37,128 | 37,128 | 0 | 0.00
272.16 | NDNH—Notice of Adverse Action or Notice of Denial | 53 | 1 | 495,040 | 0.03 | 14,851.20 | 14,851.2 | 0 | 0.00
Total | 53 | 1 | 10,890,883 | .01906818 | 207,669.28 | 210,849.28 | 0 | 3,180
Households
272.16 | NDNH—Request for Contact | 891,072 | 1 | 891,072 | 0.03 | 26,732.16 | 26,732.16 | 0 | 0.00
272.16 | NDNH—Notice of Adverse Action or Notice of Denial | 495,040 | 1 | 495,040 | 0.03 | 14,851.20 | 14,851.20 | 0 | 0.00
Total | 891,072 | 1 | 1,386,112 | 0.03 | 41,583.36 | 41,583.36 | 0 | 0.00

Dated: March 19, 2019.
Brandon Lipps,
Administrator, Food and Nutrition Service.

[FR Doc. 2019-06021 Filed 3-28-19; 8:45 am]

BILLING CODE 3410-30-P